DEPARTMENT OF TRANSPORTATION

Federal Highway Administration

Environmental Impact Statement: Westchester County, New York

AGENCY: Federal Highway Administration (FHWA), DOT.

ACTION: Notice of intent.

SUMMARY: The FHWA is issuing this notice to advise the public that an environmental impact statement will be prepared for a proposed highway project in Westchester County, New York.

FOR FURTHER INFORMATION CONTACT: Robert A. Dennison III, P.E., Regional Director, NYSDOT Region 8; Eleanor Roosevelt State Office Building; 4 Burnett Boulevard; Poughkeepsie, NY 12603; Telephone: (845) 431-5750; or, Robert E. Arnold, Division Administrator, Federal Highway Administration, New York Division, Leo W. O'Brien Federal Building, Room 719, Clinton Avenue and North Pearl Street, Albany, New York 12207; Telephone: (518) 431-4127.

SUPPLEMENTARY INFORMATION: The FHWA, in cooperation with the New York State Department of Transportation (NYSDOT), will prepare an environmental impact statement (EIS) on a proposal to improve NYS Route 9A in Westchester County, New York. The proposed improvements will involve the reconstruction of approximately 2.5 miles of the existing route from just south of Route 119 to just north of Route 100C in the Towns of Greenburgh and Mount Pleasant and Village of Elmsford. The improvements to Route 9A are considered necessary to provide for the existing and projected traffic demand and to improve safety. Also, included in this proposal is the replacement of the existing Route 100C bridge over Route 9A and a new I-287 eastbound exit ramp to Route 9A.

Alternatives under consideration include: (1) Taking no actions; (2) widening and reconstructing Route 9A; (3) widening and reconstructing Route 9A and providing a new eastbound Cross Westchester Expressway (Route I-287) off ramp; (4) widening and reconstructing 9A, providing new eastbound Cross Westchester Expressway (Route I-287) off ramp, and improving access to major industrial/commercial area; and (5) constructing a bypass on new alignment in association with the widening and reconstruction of Route 9A. Incorporated into and studied with the various build alternatives will be design variations of grade and alignment.

Letter describing the proposed action and soliciting comments will be sent to appropriate Federal, State, and local agencies, and to private organizations and citizens who have previously expressed interest in this proposal. A series of public information meetings will be held in the Town of Greenburg between March 2002 and June 2003. In addition, a public hearing will be held. Public notice will be given of the time and place of the meetings and hearing. The draft EIS, when prepared, will be available for public and agency review and comment. A formal NEPA scoping meeting will be held at the Greenburgh Town Hall, 320 Tarrytown Road, Elmsford, New York 10523, on Wednesday, March 27, 2002. At 3:30 P.M. a meeting will be held for Federal, State, and Local agencies and at 7:15 P.M. a meeting for the general public and all interested parties. Each meeting will be preceded by a 30-minute open house during which attendees can view concept plans and interact with project team members.

To ensure that the full range of issues related to this proposed action are addressed and all significant issues identified, comments and suggestions are invited from all interested parties. Comments or questions concerning this proposed action and the EIS should be directed to the NYSDOT or FHWA at the addresses provided above.

(Catalog of Federal Domestic Assistance Program Number 20.205,Highway Research, Planning and Construction. The regulations implementing Executive Order 12372 regarding intergovernmental consultation on Federal programs and activities apply to this program.)

Authority: 23 U.S.C. 315; 23 CFR 771.123.

Issued on: February 25,2002.
Douglas P. Conlan,
District Engineer, Federal Highway Administration, Albany, New York.

[FR Doc. 02-5759 Filed 3-8-02; 8:45 am]

BILLING CODE 4910-22-M